DEPARTMENT OF COMMERCE

International Trade Administration

[A-821-809]

Certain Hot-Rolled Flat-Rolled Carbon-Quality Steel Products From the Russian Federation: Final Results of the Expedited Sunset Review of the Antidumping Duty Order

AGENCY: Enforcement and Compliance, International Trade Administration, Department of Commerce.

SUMMARY: As a result of this expedited sunset review, the Department of Commerce (Commerce) finds that revocation of the antidumping duty (AD) order on certain hot-rolled flat-rolled carbon-quality steel products (hot-rolled steel) from the Russian Federation (Russia) would be likely to lead to continuation or recurrence of dumping at the rates identified in the “Final Results of Review” section of this notice.

DATES: Applicable December 22, 2021.

FOR FURTHER INFORMATION CONTACT: James Hepburn, AD/CVD Operations, Office VI, Enforcement and Compliance, U.S. Department of Commerce, 1401 Constitution Avenue NW, Washington, DC 20230; telephone: (202) 482-1882.

SUPPLEMENTARY INFORMATION:

Background

On December 24, 2014, Commerce published the AD order on hot-rolled steel from Russia.¹ On September 1, 2021, Commerce published the notice of initiation of the second sunset review of the Order in accordance with section 751(c) of the Tariff Act of 1930, as amended (the Act).² On September 16, 2021, Commerce received notices of intent to participate from Nucor Corporation, California Steel Industries, Cleveland-Cliffs Inc., Steel Dynamics Inc., and United States Steel Corporation (collectively, domestic interested parties), within the 15-day deadline specified in 19 CFR 351.218(d)(1)(i). Domestic interested parties claimed interested party status under section 771(9)(C) of the Act.

¹ See Termination of the Suspension Agreement on Hot-Rolled Flat-Rolled Carbon-Quality Steel Products from the Russian Federation, Rescission of 2013-2014 Administrative Review, and Issuance of Antidumping Duty Order, 79 FR 77455 (December 24, 2014) (Order).

² See Initiation of Five-Year (Sunset) Reviews, 86 FR 48983 (September 1, 2021).

On September 30, 2021, Commerce received an adequate substantive response to the notice of initiation from domestic interested parties within the 30-day deadline specified in 19 CFR 351.218(d)(3)(i).³ Commerce did not receive a substantive response from any respondent interested parties. On October 20, 2021 Commerce notified the U.S. International Trade Commission that it did not receive an adequate substantive response from respondent interested parties.⁴ As a result, pursuant to section 751(c)(3)(B) of the Act and 19 CFR 351.218(e)(1)(ii)(C), Commerce conducted an expedited, i.e., 120-day, sunset review of the Order.

³ See Domestic Interested Parties' Letter, “Certain Hot-Rolled Carbon Steel Flat Products from the Russian Federation: Substantive Response to the Notice of Initiation of Sunset Review,” dated September 30, 2021.

⁴ See Commerce's Letter, “Sunset Reviews Initiated on September 1, 2021,” dated October 20, 2021.

Scope of the Order

The merchandise subject to the Order is hot-rolled steel. These imports are currently classified in the Harmonized Tariff Schedule of the United States (HTSUS) at subheadings 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7210.70.30.00, 7210.90.90.00, 7211.14.00.30, 7211.14.00.90, 7211.19.15.00, 7211.19.20.00, 7211.19.30.00, 7211.19.45.00, 7211.19.60.00, 7211.19.75.30, 7211.19.75.60, 7211.19.75.90, 7212.40.10.00, 7212.40.50.00, 7212.50.00.00, 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00.

The HTSUS subheadings are provided for convenience and customs purposes. A full description of the scopes of the Order is contained in the Issues and Decision Memorandum.⁵ The written descriptions are dispositive.

⁵ See Memorandum, “Issues and Decision Memorandum for the Expedited Sunset Review of the Antidumping Duty Order on Certain Hot-Rolled Flat-Rolled Carbon-Quality Steel Products from the Russian Federation,” dated concurrently with, and hereby adopted by, this notice (Issues and Decision Memorandum) at 3.

Analysis of Comments Received

All issues raised in this review are addressed in the Issues and Decision Memorandum,⁶ including the likelihood of continuation or recurrence of dumping, and the magnitude of the margins of dumping likely to prevail if this order was revoked. The Issues and Decision Memorandum is a public document and is on file electronically via Enforcement and Compliance's Antidumping and Countervailing Duty Centralized Electronic Service System (ACCESS). ACCESS is available to registered users at http://access.trade.gov. A list of topics discussed in the Issues and Decision Memorandum is included as an appendix to this notice. In addition, a complete version of the Issues and Decision Memorandum can be accessed directly at https://access.trade.gov/public/FRNoticesListLayout.aspx.

⁶ See Issues and Decision Memorandum.

Final Results of Sunset Review

Pursuant to sections 752(c)(1) and (3) of the Act, Commerce determines that revocation of the Order would be likely to lead to continuation or recurrence of dumping at weighted-average margins up to 184.56.⁷

⁷ See Notice of Final Determination of Sales at Less than Fair Value: Hot-Rolled Flat-Rolled Carbon-Quality Steel Products from the Russian Federation, 64 FR 38626 (July 19, 1999).

Administrative Protective Order

This notice also serves as the only reminder to parties subject to an administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

Notification to Interested Parties

We are issuing and publishing the final results and this notice in accordance with sections 751(c), 752(c), and 777(i)(1) of the Act, and 19 CFR 351.218.

Dated: December 15, 2021.
Ryan Majerus,
Deputy Assistant Secretary for Policy and Negotiations, performing the non-exclusive functions and duties of the Assistant Secretary for Enforcement and Compliance.

Appendix—List of Topics Discussed in the Issues and Decision Memorandum

I. Summary

II. Background

III. Scope of the Order

IV. History of the Proceeding

V. Legal Framework

VI. Discussion of the Issues

1. Likelihood of Continuation or Recurrence of Dumping

2. Magnitude of the Margins Likely to Prevail

VII. Recommendation

[FR Doc. 2021-27717 Filed 12-21-21; 8:45 am]

BILLING CODE 3510-DS-P